DEPARTMENT OF ENERGY

Federal Energy Regulatory Commission

[Project No. 4784-106]

Topsham Hydro Partners Limited Partnership; Notice of Waiver Period for Water Quality Certification Application

On June 15, 2021, Topsham Hydro Partners Limited Partnership submitted to the Federal Energy Regulatory Commission (Commission) a copy of its application for a Clean Water Act section 401(a)(1) water quality certification filed with the Maine Department of Environmental Protection, in conjunction with the above captioned project. Pursuant to 40 CFR 121.6, we hereby notify the Maine Department of Environmental Protection of the following:

Date of Receipt of the Certification Request: June 9, 2021

Reasonable Period of Time to Act on the Certification Request: One year

Date Waiver Occurs for Failure to Act: June 9, 2022

If the Maine Department of Environmental Protection fails or refuses to act on the water quality certification request by the above waiver date, then the agency certifying authority is deemed waived pursuant to section 401(a)(1) of the Clean Water Act, 33 U.S.C. 1341(a)(1).

Dated: June 16, 2021.
Kimberly D. Bose,
Secretary.

[FR Doc. 2021-13161 Filed 6-22-21; 8:45 am]

BILLING CODE 6717-01-P